DEPARTMENT OF COMMERCE

Census Bureau

Proposed Information Collection; Comment Request; Generic Clearance for the 2020 Census Field Tests

AGENCY: U.S. Census Bureau, Department of Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before November 9, 2015.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Erin Love, Census Bureau, HQ-3H468E, Washington, DC 20233; (301) 763-2034 (or via the Internet at erin.s.love@census.gov).

SUPPLEMENTARY INFORMATION:

I. Abstract

The U.S. Census Bureau is committed to conducting research towards a 2020 Census that costs less while maintaining high quality results. The Census Bureau plans to request an extension of the current OMB approval to conduct a series of small-scale tests to research and evaluate how the use of automation can improve data collection activities. These tests will explore how the Census Bureau can use automated processes to improve efficiency, data quality, and response rates and reduce respondent burden.

This information collection will operate as a generic clearance. The estimated number of respondents and annual reporting hours requested cover both the known and yet to be determined tests. A generic clearance is needed for these tests because though each share similar methodology, the exact number of tests and the explicit details of each test to be performed has yet to be determined. Once information collection plans are defined, they will be submitted on an individual basis in order to keep OMB informed as these tests progress.

The Census Bureau plans to test the use of mobile computing devices, emails, text messages and applications in self-enumeration and data collection tasks. The enumeration functions research will focus on using various applications to enumerate households and persons. The research and evaluation may include: Developing an automated enumeration questionnaire; inviting respondents to participate; reminding them to participate; usability issues; conducting interviews; and ability to toggle to non-English language instrument. To test enumeration functions, the Census Bureau may conduct the enumeration directly with a household member or knowledgeable respondent. The questions asked in these tasks will be content or experimental content for the 2020 Census operations and forms, along with some attitudinal and satisfaction debriefing questions.

II. Method of Collection

The information will be collected through observations, self-response, face-face interviews, and/or telephone interviews.

III. Data

OMB Control Number: 0607-0971.

Form Number: Not yet determined.

Type of Review: Regular submission.

Affected Public: Individuals or households.

Estimated Number of Respondents: 36,000 per year.

Estimated Time per Response: 10 minutes.

Estimated Total Annual Burden Hours: 6000 hours annually.

Estimated Total Annual Cost: There is no cost to the respondent other than time to answer the information request.

Respondents Obligation: Mandatory.

Legal Authority: Title 13 U.S.C. Sections 141 and 193.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 4, 2015.
Glenna Mickelson,
Management Analyst, Office of the Chief Information Officer.

[FR Doc. 2015-22789 Filed 9-9-15; 8:45 am]

BILLING CODE 3510-07-P